DEPARTMENT OF ENERGY

Federal Energy Regulatory Commission

[Docket No. CP21-474-000]

Rover Pipeline LLC; Notice of Schedule for Environmental Review of the North Coast Interconnect Project

On July 20, 2021, Rover Pipeline LLC (Rover) filed an application in Docket No. CP21-474 requesting a Certificate of Public Convenience and Necessity pursuant to Section 7(c) of the Natural Gas Act to construct and operate certain natural gas pipeline facilities. The proposed project is known as the North Coast Interconnect Project (Project), whereby Rover would construct and operate a new delivery point on Rover's mainline in Seneca County, Ohio. The Rover-North Coast Interconnect would receive up to 108,000 dekatherms per day of pipeline quality natural gas from an interconnect with North Coast's gathering system.

On August 2, 2021, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—January 27, 2022

90-day Federal Authorization Decision Deadline—April 27, 2022

If a schedule change becomes necessary, additional notice will be provided so that the relevant agencies are kept informed of the Project's progress.

Project Description

The North Coast Interconnect Project would consist of Rover constructing and operating a new hot tap, valve, and approximately 140 feet of 6-inch-diameter interconnect piping to connect the Rover Mainline B at milepost 19.5 to new metering facilities to be constructed by North Coast Gas Transmission.

Background

On September 8, 2021, the Commission issued a Notice of Scoping Period Requesting Comments on Environmental Issues for the Proposed North Coast Interconnect Project (NOS). The NOS was sent to affected landowners; federal, state, and local government agencies; elected officials; environmental and public interest groups; Native American tribes; other interested parties; and local libraries and newspapers. In response to the NOS, the Commission received comments from the U.S. Fish and Wildlife Service and the U.S. Environmental Protection Agency. The primary issues raised by the U.S. Fish and Wildlife Service concerned wetlands protection, revegetation with pollinator species, the potential presence of listed bat species, and the protection of bald eagles and migratory bird species. The U.S. Environmental Protection Agency commented on identifying the Project purpose and need; and assessing impacts on socioeconomics and environmental justice communities, greenhouse gas emissions, climate change, surface and groundwater quality, and karst terrain. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP21-474), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: November 17, 2021.
Kimberly D. Bose,
Secretary.

[FR Doc. 2021-25620 Filed 11-23-21; 8:45 am]

BILLING CODE 6717-01-P